DEPARTMENT OF ENERGY

Federal Energy Regulatory Commission

[Project No. 13465-002]

Henry County Conservation Department; Notice of Surrender of Preliminary Permit

Take notice that Henry County Conservation Department, permittee for the proposed Oakland Mills Hydropower Project, filed a letter on March 1, 2016, requesting that its successive preliminary permit be surrendered. The permit was issued on April 3, 2013, and would have expired on March 31, 2016.¹ The project would have been located on the Skunk River, near Tippecanoe Township, Henry County, Iowa.

¹ 143 FERC ¶ 62,005 (2013).

The preliminary permit for Project No. 13465 will remain in effect until the close of business, March 31, 2016. But, if the Commission is closed on this day, then the permit remains in effect until the close of business on the next day in which the Commission is open.² New applications for this site may not be submitted until after the permit surrender is effective.

² 18 CFR 385.2007(a)(2) (2015).

Dated: March 10, 2016 .
Nathaniel J. Davis, Sr.,
Deputy Secretary.

[FR Doc. 2016-05875 Filed 3-15-16; 8:45 am]

BILLING CODE 6717-01-P